DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service, intends to grant to Azure Waves Seafood, Inc., of Cincinnati, Ohio, an exclusive license for certain uses in the field of seafood breading and batters of U.S. Patent Application Serial No. 08/233,173, filed April 26, 1994, and U.S. Patent No. 5,676,994, issued October 14, 1997, both entitled, “Non-Separable Starch-Oil Compositions,” and U.S. Patent No. 5,882,713, issued March 16, 1999, entitled “Non-Separable Compositions of Starch and Water-Immiscible Organic Materials,” and their foreign equivalents. Notice of Availability for U.S. Patent Application No. 08/233,173 was published in the Federal Register on October 24, 1994; Patent No. 5,676,994 and Patent No. 5,882,713 are a continuation and continuation-in-part, respectively of Serial No. 08/233,173.

DATES: Comments must be received on or before May 30, 2000.

ADDRESSES: Send comments to: USDA, ARS, Office of the Director, National Center for Agricultural Utilization Research, Room 2042, 1815 N. University Street, Peoria, Illinois 61604.

FOR FURTHER INFORMATION CONTACT: Andrew Watkins of the National Center for Agricultural Utilization Research at the Peoria address given above; telephone: 309-681-6545.

SUPPLEMENTARY INFORMATION: The Federal Government's patent rights to these inventions are assigned to the United States of America, as represented by the Secretary of Agriculture. It is in the public interest to so license these inventions as Azure Waves Seafood, Inc., has submitted a complete and sufficient application for a license. The prospective exclusive license will be royalty-bearing and will comply with the terms and conditions of 35 U.S.C. 209 and 37 CFR 404.7. The prospective exclusive license may be granted unless, within sixty (60) days from the date of this published Notice, the Agricultural Research Service receives written evidence and argument which establishes that the grant of the license would not be consistent with the requirements of 35 U.S.C. 209 and 37 CFR 404.7.

Richard M. Parry, Jr.,
Assistant Administrator.

[FR Doc. 00-7943 Filed 3-30-00; 8:45 am]

BILLING CODE 3410-03-P